DEPARTMENT OF JUSTICE

Notice of Lodging of Proposed Consent Decree Under the Clean Air Act

On May 19, 2015, the Department of Justice lodged a proposed Consent Decree with the United States District Court for the Northern District of Ohio Western Division in the lawsuit entitled United States v. Marathon Petroleum Corporation and Marathon Petroleum Company LP, Civil Action No. 3:15-cv-00994.

The Consent Decree resolves claims for civil penalties and injunctive relief arising from alleged violations of the CAA, Sections 211(a), (f) and (k), 42 U.S.C. 7545(a), (f) and (k), and the fuel regulations published at 40 CFR parts 79 and 80, for potential violations of the fuel emission standards, volatile organic compound emissions reduction standards, and sulfur emissions reduction standards for certain batches of gasoline produced or blended at Marathon's Texas City and Catlettsburg refineries and its Viney Branch, Louisville-Kramer Lane, Jacksonville, Lexington, Charlotte, and Tampa Terminals. The Consent Decree also addresses alleged sampling, testing, reporting, and recordkeeping violations at various Marathon facilities. In exchange for a resolution of the foregoing allegations, Marathon will pay a civil penalty of $2.9 million, retire 5.5 billion sulfur credits, and install geodesic domes, fixed roofs, or secondary seals and deck fittings on 14 fuel storage tanks at several of its fuel distribution terminals that are primarily located in environmental justice areas. Marathon estimates that these projects will reduce volatile organic compound emissions, including toxics, by 36.8 tons per year. The total value of the proposed settlement is estimated to be about $5.71 million.

The publication of this notice opens a period for public comment on the ____. Comments should be addressed to the Assistant Attorney General, Environment and Natural Resources Division, and should refer to United States v. Marathon Petroleum Corporation and Marathon Petroleum Company LP, D.J. Ref. No., 90-5-2-1-11030. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: http://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $11.50 (with exhibits) payable to the United States Treasury.

Bob Brook,
Assistant Section Chief, Environmental Enforcement Section, Environment and Natural Resources Division.

[FR Doc. 2015-12549 Filed 5-21-15; 8:45 am]

BILLING CODE 4410-15-P